DEPARTMENT OF HOMELAND SECURITY

Coast Guard

[Docket No. USCG-2021-0631]

Guidance: Change 3 to NVIC 19-14 Policy on Qualified Assessors

AGENCY: Coast Guard, DHS.

ACTION: Notice of availability.

SUMMARY: The Coast Guard announces the availability of Change 3 to Navigation and Vessel Inspection Circular (NVIC) 19-14 Policy on Qualified Assessors (QAs). This NVIC provides guidance to mariners concerning assessments of competence for STCW endorsements. This change notice revises NVIC 19-14 to indicate that until June 30, 2024, the Coast Guard will accept assessments of competence that are signed before January 1, 2024, by a person who is not a Coast Guard approved QA.

DATES: The policies announced in Change-3 to NVIC 19-14 are effective as of October 29, 2021.

ADDRESSES: To view documents mentioned in this notice, search the docket number USCG-2021-0631 using the Federal eRulemaking Portal at https://www.regulations.gov.

FOR FURTHER INFORMATION CONTACT: For information about this document, contact James Cavo, Mariner Credentialing Program Policy Division (CG-MMC-2), Coast Guard; telephone 202-372-1205; email MMCPolicy@uscg.mil.

SUPPLEMENTARY INFORMATION: Assessments of competence for STCW endorsements must be signed by a Coast Guard-approved QA in accordance with 46 CFR 11.301(a)(1)(i) and 12.601(b)(1)(i). QAs must be approved by the Coast Guard either individually or as part of a Coast Guard-approved or accepted course or training program, as described in Navigation and Vessel Inspection Circular (NVIC) 19-14 (Policy on Qualified Assessors).

Current policy allows for the acceptance of STCW assessments, performed for and signed by an assessor not approved by the Coast Guard, until December 31, 2021. Such an assessor must meet the professional requirements in 46 CFR 10.405(a)(3) to determine competence for the specific endorsement.

The Coast Guard is aware that as a result of the limited number of approved QAs, there may be a hardship on mariners trying to complete STCW assessments after December 31, 2021. In consideration of this, the Coast Guard will continue to allow STCW assessments to be signed by an assessor who meets the requirements specified in NVIC 19-14 until December 31, 2023. These assessments must be submitted to the Coast Guard as part of a complete application no later than June 30, 2024. Qualified military personnel need not be approved QAs and may continue to sign assessments after December 31, 2023.

In addition, we will update the deadlines for QAs in other NVICs and guidance to reflect the new deadlines announced in CH-3 NVIC 19-14.

This notice is issued under authority of 5 U.S.C. 552(a).

Dated: October 29, 2021.
J.W. Mauger,
Rear Admiral, U.S. Coast Guard, Assistant Commandant for Prevention Policy.

[FR Doc. 2021-26390 Filed 12-3-21; 8:45 am]

BILLING CODE 9110-04-P